DEPARTMENT OF COMMERCE

International Trade Administration

A-570-890

Wooden Bedroom Furniture From The People's Republic of China: Notice of Partial Rescission of New Shipper Review

AGENCY: Import Administration, International Trade Administration, Department of Commerce.

SUMMARY: On May 29, 2007, Golden Well International (HK) Ltd. (“Golden Well”) submitted a letter to the Department of Commerce (“the Department”) stating that its sale had been cancelled and withdrawing its request for the new shipper review. Accordingly, we are rescinding the new shipper review with respect to Golden Well.

SUPPLEMENTARY INFORMATION:

Background

On January 24, 2007, the Department of Commerce (“the Department”) received a timely request for a new shipper review of the antidumping order on wooden bedroom furniture (“WBF”) from the People's Republic of China (“PRC”) from Golden Well. On March 7, 2007, the Department initiated a new shipper review of shipments of WBF from the PRC exported by Golden Well during the POR. See Wooden Bedroom Furniture from the People's Republic of China: Initiation of New Shipper Reviews, 72 FR 10158 (March 7, 2007). On May 29, 2007, Golden Well withdrew its request for a new shipper review.

Rescission of New Shipper Review

Pursuant to 19 CFR 351.214(f)(1), the Department may rescind a new shipper review if the party that requested the review withdraws its request for review within 60 days of the date of publication of the notice of initiation of the requested review. Although Golden Well withdrew its request after the 60-day deadline, we find it reasonable to allow it to withdraw its request because we have not yet committed significant resources to this proceeding. Further, no party has opposed Golden Well's request to withdraw. Therefore, we are rescinding the 2006 new shipper review of the antidumping duty order on wooden bedroom furniture from the PRC with respect to Golden Well in accordance with 19 CFR 351.214(f)(1). See Freshwater Crawfish Tail Meat from the People's Republic of China; Notice of Rescission of Antidumping Duty New Shipper Review, 72 FR 43591 (August 6, 2007).

Notification

We will issue assessment instructions after 15 days of the date of the publication of this notice and, in accordance with 19 CFR 351.212(c), we will instruct U.S. Customs and Border Protection to assess antidumping duties at the cash deposit rate in effect at the time of entry for all shipments of WBF from the PRC produced and exported by Golden Well and entered, or withdrawn from warehouse, for consumption during the period January 1, 2006, through December 31, 2006.

This notice serves as a final reminder to importers of their responsibility under 19 CFR 351.402(f) to file a certificate regarding the reimbursement of antidumping duties prior to liquidation of the relevant entries during this review period. Failure to comply with this requirement could result in the Secretary's assumption that reimbursement of antidumping duties occurred and subsequent assessment of double antidumping duties.

This notice is published in accordance with section 777(i)(1) of the Tariff Act of 1930, as amended, and 19 CFR 351.213(d)(4) of the Department's regulations.

Dated: August 27, 2007.
Gary Taverman,
Acting Deputy Assistant Secretary for Import Administration.

[FR Doc. E7-17518 Filed 9-4-07; 8:45 am]

BILLING CODE 3510-DS-S

3